DEPARTMENT OF THE INTERIOR

Fish and Wildlife Service

Notice of Receipt of Applications for Permit

The following applicants have applied for a permit to conduct certain activities with endangered species. This notice is provided pursuant to Section 10© of the Endangered Species Act of 1973, as amended (16 U.S.C. 1531, et seq.):

Applicant: Mandalay Bay Resort and Casino, Las Vegas, NV, PRT-027740.

The applicant requests a permit to import five captive-bred saltwater crocodiles (Crocodylus porosus) from the Vancouver Aquarium in Canada to Shark Reef at Mandalay Bay Resort and Casino in Las Vegas, Nevada for public display, conservation education, and behavioral research to enhance survival of the species. The animals were produced at the Samutprakan Crocodile Farm & Zoo., Ltd. in Thailand.

Applicant: Henry Doorly Zoo, Omaha, NE, PRT-013269.

The applicant requests a permit to import biological samples from Gaur (Bos gaurus) collected from wild, wild caught, and captive born sources in Thailand, Laos, Cambodia, Malaysia, Nepal, and Vietnam for scientific research.

Applicant: Tom Stehn, Whooping Crane Recovery Plan Coordinator, U.S. Fish and Wildlife Service, Region 2, Austwell, TX, PRT-022747.

The applicant requests a permit to export/re-export captive-bred/captive hatched and wild live specimens, captive-bred/wild collected viable eggs, biological samples from captive-bred/wild specimens, and salvaged materials from captive-bred/wild specimens of Whooping cranes (Grus americana) to Canada, for completion of identified tasks and objectives mandated under the Whooping Crane Recovery Plan. Salvage materials may include, but are not limited to, whole or partial specimens, feathers, eggs, and egg shell fragments. This notification covers activities conducted by the applicant over the next 5 years.

Applicant: Ferdinand and Anton Fercos Hantig, Las Vegas, NV, PRT-005821.

The applicant requests a permit to export and re-import African leopard (Panther pardus delacouri), and progeny of the animals currently held by the applicant and any animals acquired in the United States by the applicant to/from worldwide locations to enhance the survival of the species through conservation education. This notification covers activities conducted by the applicant over a three year period.

Applicant: Atlanta/Fulton County Zoo, Inc. Atlanta, GA, PRT-027116.

The applicant requests a permit to import tissue samples from Drill (Mandrillus leucophaeus) taken from wild animals in Equatorial Guinea. Samples are to be imported for scientific research purposes.

Applicant: Ron Holiday, Umatilla, FL, PRT-801464.

The applicant requests a permit to re-export and re-import one captive born Clouded leopard (Neofelis nebulosa) and progeny of the animals currently held by the applicant and any animals acquired in the United States by the applicant to/from worldwide locations to enhance the survival of the species through conservation education. This notification covers activities conducted by the applicant over a three year period.

Applicant: Miller Equipment company, Inc., Hugo, OK, PRT-025867.

The applicant requests a permit to purchase in interstate commerce one male and four female Asian elephants (Elephas maximus) from Bucky Steele, Jefferson, Texas for conservation educational purposes.

Applicant: Larry Johnson, Boerne, TX, PRT-027396.

The applicant requests a permit to export one male and two females Ring-tail lemur (Lemur catta) to Gobierno del Edo. De Mexico, Toluca Edo de Mexico, Mexico for the purpose of enhancement of the survival of the species through propagation.

Applicant: Larry Johnson, Boerne, TX, PRT-027399.

The applicant requests a permit to export one pair of Siamang gibbons (Hylobates syndactylus) to Gobierno del Edo. De Mexico, Toluca Edo de Mexico, Mexico for the purpose of enhancement of the survival of the species through propagation.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: May 26, 2000.
Kristen Nelson,
Chief, Branch of Permits, Office of Management Authority.

[FR Doc. 00-13788 Filed 6-1-00; 8:45 am]

BILLING CODE 4310-55-P